DEPARTMENT OF TRANSPORTATION

Federal Aviation Administration

14 CFR Part 39

[Docket No. FAA-2011-1327; Directorate Identifier 2011-NM-091-AD; Amendment 39-17048; AD 2012-09-13]

RIN 2120-AA64

Airworthiness Directives; Airbus Airplanes

AGENCY: Federal Aviation Administration (FAA), Department of Transportation (DOT).

ACTION: Final rule.

SUMMARY: We are adopting a new airworthiness directive (AD) for certain Airbus Model A330-200 freighter series airplanes; Model A330-200 and -300 series airplanes; and Model A340-200 and -300 series airplanes. This AD was prompted by a report of corrosion found on the main fitting of the nose landing gear (NLG) leg in the vicinity of the dowel pin bushes retaining the lower steering flange. This AD requires modifying the NLG main fitting by adding primer paint to the cadmium around the dowel bush holes. We are issuing this AD to prevent NLG main fitting rupture, which could result in an NLG collapse.

DATES: This AD becomes effective June 21, 2012.

The Director of the Federal Register approved the incorporation by reference of certain publications listed in this AD as of June 21, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, Washington 98057-3356; telephone 425-227-1138; fax 425-227-1149.

SUPPLEMENTARY INFORMATION:

Discussion

We issued a notice of proposed rulemaking (NPRM) to amend 14 CFR part 39 to include an AD that would apply to the specified products. That NPRM was published in the Federal Register on December 29, 2011 (76 FR 81884). That NPRM proposed to correct an unsafe condition for the specified products. The MCAI states:

Corrosion has been found on the main fitting of the NLG leg in the vicinity of the dowel pin bushes retaining the lower steering flange on A330/A340 aeroplanes. The majority of parts have been reworked and returned to service.

This corrosion, if not avoided, could lead to the NLG main fitting rupture, possibly resulting in a NLG collapse, which would constitute an unsafe condition.

In order to maintain the structural integrity of the NLG, this [EASA] AD requires the accomplishment of a modification which consists in adding primer paint to the cadmium around the dowel bush holes on the main fitting, in order to provide further protection against cadmium degradation.

You may obtain further information by examining the MCAI in the AD docket.

Comments

We gave the public the opportunity to participate in developing this AD. We received no comments on the NPRM (76 FR 81884, December 29, 2011) or on the determination of the cost to the public.

Changes to the AD

Airbus has issued Mandatory Service Bulletins A330-32-3241 and A340-32-4282, both Revision 01, both including Appendix 01, both dated October 6, 2011, which correct certain aircraft maintenance manual references. We referred to Airbus Mandatory Service Bulletins A330-32-3241 and A340-32-4282, both dated November 26, 2010, as the appropriate sources of service information for doing the actions specified in the NPRM (76 FR 81884, December 29, 2011). We have updated paragraphs (g) and (j) of this AD to refer to Airbus Mandatory Service Bulletins A330-32-3241 and A340-32-4282, both Revision 01, both including Appendix 01, both dated October 6, 2011. We have also added new paragraph (h) to this AD to give credit for actions done before the effective date of this AD in accordance with Airbus Mandatory Service Bulletins A330-32-3241 and A340-32-4282, both dated November 26, 2010, and updated subsequent paragraph identifiers accordingly.

We also added a reference to Model A330-200 freighter series airplanes in paragraphs (g) and (h) of this AD.

Conclusion

We reviewed the available data and determined that air safety and the public interest require adopting the AD with the changes described previously and minor editorial changes. We have determined that these changes:

• Are consistent with the intent that was proposed in the NPRM (76 FR 81884, December 29, 2011) for correcting the unsafe condition; and

• Do not add any additional burden upon the public than was already proposed in the NPRM (76 FR 81884, December 29, 2011).

Costs of Compliance

We estimate that this AD will affect 55 products of U.S. registry. We also estimate that it will take about 66 work-hours per product to comply with the basic requirements of this AD. The average labor rate is $85 per work-hour. Required parts will cost about $10,000 per product. Where the service information lists required parts costs that are covered under warranty, we have assumed that there will be no charge for these parts. As we do not control warranty coverage for affected parties, some parties may incur costs higher than estimated here. Based on these figures, we estimate the cost of this AD to the U.S. operators to be $858,550, or $15,610 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 81884, December 29, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-09-13 Airbus: Amendment 39-17048. Docket No. FAA-2011-1327, Directorate Identifier 2011-NM-091-AD.

(a) Effective Date

This airworthiness directive (AD) becomes effective June 21, 2012.

(b) Affected ADs

None.

(c) Applicability

This AD applies to Airbus Model A330-223F, -243F, -201, -202, -203, -223, -243, -301, -302, -303, -321, -322, -323, -341, -342, and -343 airplanes; and Model A340-211, -212, -213, -311, -312, and -313 airplanes; certificated in any category; all manufacturer serial numbers, except airplanes on which Airbus modification 200616 has been embodied in production.

(d) Subject

Air Transport Association (ATA) of America Code 32: Landing gear.

(e) Reason

This AD was prompted by a report of corrosion found on the main fitting of the nose landing gear (NLG) leg in the vicinity of the dowel pin bushes retaining the lower steering flange. We are issuing this AD to prevent NLG main fitting rupture, which could result in an NLG collapse.

(f) Compliance

You are responsible for having the actions required by this AD performed within the compliance times specified, unless the actions have already been done

(g) Modification

At the later of the times specified in paragraph (g)(1), (g)(2), or (g)(3) of this AD, as applicable: Modify the NLG main fitting by adding primer paint to the cadmium around the dowel bush holes, in accordance with the Accomplishment Instructions of Airbus Mandatory Service Bulletin A330-32-3241, Revision 01, including Appendix 01, dated October 6, 2011 (for Model A330-200 and -300 airplanes, and Model A330-200 freighter series airplanes); or Airbus Mandatory Service Bulletin A340-32-4282, Revision 01, including Appendix 01, dated October 6, 2011 (for Model A340-200 and -300 airplanes).

(1) Within 60 months since first flight of the NLG on any airplane.

(2) Within 60 months since first flight of the NLG on any airplane after the most recent overhaul of the NLG.

(3) Within 24 months after the effective date of this AD.

(h) Credit for Previous Actions

This paragraph provides credit for the actions required by paragraph (g) of this AD, if those actions were performed before the effective date of this AD using Airbus Mandatory Service Bulletin A330-32-3241, dated November 26, 2010 (for Model A330-200 and -300 airplanes, and Model A330-200 freighter series airplanes); or A340-32-4282, dated November 26, 2010 (for Model A340-200 and -300 airplanes).

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to MCAI European Aviation Safety Agency (EASA) Airworthiness Directive 2011-0032, dated March 1, 2011, and the service information specified in paragraphs (j)(1) and (j)(2) of this AD, for related information.

(1) Airbus Mandatory Service Bulletin A330-32-3241, Revision 01, including Appendix 01, dated October 6, 2011.

(2) Airbus Mandatory Service Bulletin A340-32-4282, Revision 01, including Appendix 01, dated October 6, 2011.

(k) Material Incorporated by Reference

(1) You must use the following service information to do the actions required by this AD, unless the AD specifies otherwise. The Director of the Federal Register approved the incorporation by reference (IBR) of the following service information under 5 U.S.C. 552(a) and 1 CFR part 51.

(i) Airbus Mandatory Service Bulletin A330-32-3241, Revision 01, including Appendix 01, dated October 6, 2011.

(ii) Airbus Mandatory Service Bulletin A340-32-4282, Revision 01, including Appendix 01, dated October 6, 2011.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on May 1, 2012.
Michael Kaszycki,
Acting Manager, Transport Airplane Directorate, Aircraft Certification Service.

[FR Doc. 2012-11492 Filed 5-16-12; 8:45 am]

BILLING CODE 4910-13-P